DEPARTMENT OF LABOR

Mine Safety and Health Administration

RIN 1219-AB20

Mine Rescue Teams

AGENCY: Mine Safety and Health Administration (MSHA), Labor.

ACTION: Notice of public meeting.

SUMMARY: The Mine Safety and Health Administration (MSHA) will hold a public meeting to gather ideas and suggestions from the mining community on the current state of availability, quality and preparedness of mine rescue teams. The ideas and suggestions will be considered by MSHA in determining what actions can be taken to improve mine rescue capabilities.

DATES: The public meeting will be held on March 28, 2002.

ADDRESSES: The public meeting will be held at the following location: National Mine Health and Safety Academy, 1301 Airport Road, Beaver, West Virginia 25813-9426, Phone: 304-256-3257.

FOR FURTHER INFORMATION CONTACT: Marvin W. Nichols, Jr., Director, Office of Standards, Regulations and Variances, MSHA, 4015 Wilson Boulevard, Arlington, VA 22203-1984. He can be reached at nichols-marvin@msha.gov (Internet e-mail), 703-235-1910 (Voice), or 703-235-5551 (Fax).

SUPPLEMENTARY INFORMATION:

I. Background

In the wake of several mine disasters, Congress promulgated the Federal Mine Safety and Health Act of 1977 (Mine Act). Congress believed that the ready availability of mine rescue capability in the event of an accident would be vital to protect miners. Accordingly, § 115(e) of the Mine Act required the Secretary of Labor to publish regulations requiring that mine rescue teams be available for rescue and recovery work at each underground mine. Section 115(e) also allowed mine operators to make cooperative arrangements to provide for the availability of mine rescue teams.

On July 3, 1980, (45 FR 46992), MSHA promulgated a new part 49, in title 30 of the Code of Federal Regulations, that included requirements for mine rescue teams in the coal and metal and nonmetal mining industries. The purpose of the rule was to implement § 115(e) of the Mine Act by ensuring the availability of rescue teams at underground mines in case of a mine emergency.

The regulation generally requires two mine rescue teams per mine and allows outside coverage teams. To limit the expense, many mines now choose to contract for mine rescue service. Existing part 49 places no restrictions on the number of mines a contractor can agree to cover.

In 1995, MSHA hosted a Mine Emergency Preparedness Conference at the National Mine Health and Safety Academy in Beckley, West Virginia. Attendees included mine rescue association members, mine rescue team trainers and captains, operators, state and federal government officials, educators, and international representatives. Issues addressed at the conference included the need to (1) increase the numbers of qualified mine rescue personnel, (2) improve the availability of trained mine rescue teams, (3) assure the quality of contract teams, and (4) provide incentives for mine operators to maintain mine rescue teams. One outcome of this conference was the establishment of a committee to study the issues identified at the conference and to make recommendations to MSHA on ways to address those issues.

In 1998, MSHA established the Mine Rescue Team Initiative Committee to investigate a decline in the number of available mine rescue teams, to make recommendations for maintaining the quality of existing mine rescue teams, and to emphasize MSHA's commitment to mine rescue. MSHA conducted interviews with industry and labor, and state agencies to gather input from all facets of the mining community. Given the passage of time since the committee completed its work, we are conducting a meeting to gather current information concerning mine rescue capabilities.

II. Public Meeting

MSHA will conduct a public meeting to gather input from interested parties on the subject of mine rescue teams, quality and preparedness.

We will conduct the meeting in an informal manner, and a court reporter will make a verbatim transcript of the proceeding.

The meeting is open to the public and will begin at 9:00 a.m. and finish after the last speaker.

Upon request, after all scheduled speakers have made an oral statement, we will allow members of the public to speak at the meeting on a first-come, first-serve basis. However, if there are no additional speakers after the last scheduled speaker, the meeting will be adjourned.

Send your requests to make oral presentations to MSHA, Office of Standards, Regulations, and Variances; 4015 Wilson Boulevard, Room 631, Arlington, VA 22203. Phone or fax requests may be made at voice: 703-235-1910; or fax: 703-235-5551. You may also request to speak when you sign in at the meeting.

In addition to making an oral statement, any member of the public may submit written statements, and other data to MSHA representatives at the meeting.

This meeting will give mine operators, miners and their representatives, and other interested parties an opportunity to present their views on the actions that can be taken to result in more effective mine rescue team capabilities.

We are specifically interested in comments addressing the issues described below, although parties are encouraged to submit comments on any relevant mine rescue team issue. Information received will help us resolve these issues and determine the most effective way to address the changing needs of the underground mining industry and its mine rescue team capability.

A. Availability of Mine Rescue Teams

How can mine operators be encouraged to provide for more mine rescue team capability?

B. Mine Rescue Team Membership

How should an individual's employment history in underground mining affect that individual's ability to serve on a mine rescue team?

C. Training for Mine Rescue Team Members

Should additional training be required for a former mine rescue team member who rejoins a team which still uses the same breathing apparatus?

Should there be joint training of mine rescue teams not located at the same rescue station?

For mine rescue teams not located at the same rescue station, how many hours of joint training would be required?

Should both teams participate concurrently in MSHA-supported rescue contests or MSHA emergency response drills (MERD)?

Should teams that participate in a MSHA-supported mine rescue contest or MERD exercises earn “training credit” for each participating member?

D. Instructor Qualifications

How should an individual's employment history in underground mining affect that individual's ability to serve as a mine rescue team instructor?

E. Equipment Availability, Maintenance, and Testing Requirements

Comments from the mining community have suggested that the costs associated with the current equipment requirements prevent some mine operators from establishing a mine rescue team.

In light of today's mine rescue team needs, what type, amount, maintenance and testing of equipment is appropriate to ensure the same level of protection for miners?

F. Incentives

A recommendation was received by the Agency to consider an incentive in the form of penalty reductions for mine operators that establish and maintain mine rescue teams.

The Agency believes this type of incentive would be prohibited by the Mine Act. We would, however, welcome suggestions on other types of incentives which would encourage operators to establish their own mine rescue teams.

Dated: March 7, 2002.
Dave D. Lauriski,
Assistant Secretary of Labor for Mine Safety and Health.

[FR Doc. 02-5947 Filed 3-11-02; 8:45 am]

BILLING CODE 4510-43-P